Proclamation 9601 of April 28, 2017

Small Business Week, 2017

By the President of the United States of America

A Proclamation

During Small Business Week, we celebrate our Nation's small business owners, whose entrepreneurship and hard work bring jobs and prosperity to our communities. Small business owners embody the American pioneering spirit and remind us that determination can turn aspiration into achievement. This week, we affirm our commitment to removing government barriers to the success of American small businesses.

Small businesses are an economic force in this country, and have grown by nearly 40 percent since 1982 despite often facing regulatory headwinds. They employ almost 58 million Americans, accounting for about 50 percent of all private-sector jobs in the United States. Our communities depend on the success of small businesses. More than 99 percent of all employer firms in the country are small businesses and in recent years, too many of them have been crushed by overwhelming Federal regulations. At the beginning of my Administration, I met with small business owners who continue to struggle under too many burdensome regulations. I have already signed legislation disapproving many excessive and unreasonable regulations and issued several Executive Orders to address other overreaching rules. These actions will free our Nation's entrepreneurs to spend more time creating jobs and less time navigating the Federal bureaucracy.

My Administration is also working to ensure our Nation's trade deals establish favorable conditions for small businesses to export their goods and services. With a level playing field on the international stage, America's small businesses will lead an export revival that brings jobs and wealth back to our country.

Our Nation also deserves a tax system that works for—not against—small business owners. One of the biggest problems facing our small businesses is an unduly complicated, and often unfair, tax system. Tax reform will unleash a new wave of investment, innovation, and entrepreneurship in our country. Americans will keep more money in their pockets, leaving them with the resources they need to expand their businesses and hire more workers.

America's small business owners transform ideas into reality. They are a strong testament to the opportunities a market economy affords. During this week, we recognize the incredible contributions small businesses make to our country and pledge to foster the conditions that enable them to prosper and thrive.

NOW, THEREFORE, I, DONALD J. TRUMP, President of the United States of America, by virtue of the authority vested in me by the Constitution and the laws of the United States, do hereby proclaim April 30 through May 6, 2017, as Small Business Week. I call upon all Americans to recognize the critical contributions of America's entrepreneurs and small business owners as they grow our Nation's economy.

IN WITNESS WHEREOF, I have hereunto set my hand this twenty-eighth day of April, in the year of our Lord two thousand seventeen, and of the Independence of the United States of America the two hundred and forty-first.

[FR Doc. 2017-09079

Filed 5-2-17; 11:15 am]

Billing code 3295-F7-P